DEPARTMENT OF AGRICULTURE

Submission for OMB Review; Comment Request

May 1, 2019

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 5, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Standards for Privately Owned Quarantine Facilities for Ruminants.

OMB Control Number: 0579-0232.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material to prevent the spread of any livestock or poultry pest or disease. The Animal and Plant Health Inspection Service (APHIS) provides standards for the approval, operation, and oversight of privately owned quarantine facilities for imported ruminants prior to their release into the United States.

Need and Use of the Information: APHIS uses the following information activities with its efforts to maintain a system whereby private individuals can operate (with APHIS oversight) their own facilities for the quarantine of imported ruminants: (1) Application Letter; (2) Cooperative Service Agreement; (3) Daily Log and Recordkeeping; (4) Request for Variance; and Operating Procedures and Recordkeeping. Without the information, APHIS would be forced to discontinue its program of allowing the operation of privately owned quarantine facilities for ruminants, a development that would hamper U.S. animal import activities.

Description of Respondents: Business or other for-profit; State.

Number of Respondents: 5.

Frequency of Responses: Recordkeeping; Reporting: On occasion.

Total Burden Hours: 64.

Kimble Brown,
Departmental Information Collection Clearance Officer.

[FR Doc. 2019-09158 Filed 5-3-19; 8:45 am]

BILLING CODE 3410-34-P